ENVIRONMENTAL PROTECTION AGENCY

[FRL OP-OFA-180]

Environmental Impact Statements; Notice of Availability

Responsible Agency: Office of Federal Activities, General Information 202-564-5632 or https://www.epa.gov/nepa.

Weekly receipt of Environmental Impact Statements (EIS)

Filed May 19, 2025 10 a.m. EST Through May 23, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250064, Draft, NRC, AL, Generic Environmental Impact Statement for License Renewal of Nuclear Plants, Supplement 21, Second Renewal Regarding Subsequent License Renewal of Browns Ferry Nuclear Power Plant, Units 1, 2, and 3, Draft Report for Comment, Comment Period Ends: 07/14/2025, Contact: Jessica Umana 301-415-5207.

EIS No. 20250065, Draft Supplement, NRC, PA, Generic Environmental Impact Statement for License Renewal of Nuclear Plants, Supplement 10, Second Renewal, Regarding Subsequent License Renewal for Peach Bottom Atomic Power Station Units 2 and 3, Supplement 1, Draft Report for Comment (NUREG-1437), Comment Period Ends: 07/14/2025, Contact: Kevin Folk 301-415-6944.

EIS No. 20250066, Draft Supplement, NRC, IL, Generic Environmental Impact Statement for License Renewal of Nuclear Plants Supplement 17, Second Renewal Regarding Subsequent License Renewal for Dresden Nuclear Power Station, Units 2 and 3, Draft Report for Comment, Comment Period Ends: 07/14/2025, Contact: Angela Sabet 301-415-1162.

EIS No. 20250067, Draft, USACE, MI, Enbridge Line 5 Tunnel, Comment Period Ends: 06/30/2025, Contact: Katie Otanez 313-226-5479.

EIS No. 20250068, Draft, USACE, LA, 2025 Draft GRR SEIS Mississippi River, Baton Rouge to the Gulf of Mexico Mississippi River-Gulf Outlet, Louisiana, New Industrial Canal Lock and Connecting Channels Project, Comment Period Ends: 07/17/2025, Contact: Mark H. Lahare 504-862-1344.

EIS No. 20250069, Final, USFS, OR, Ellis Integrated Vegetation Project, Review Period Ends: 06/30/2025, Contact: Leslie Taylor 541-427-5324.

EIS No. 20250070, Draft, TVA, TN, TVA Pumped Storage Hydropower, Comment Period Ends: 07/14/2025, Contact: Elizabeth Smith 865-632-3053.

Dated: May 23, 2025.
Nancy Abrams,
Associate Director, Office of Federal Activities.

[FR Doc. 2025-09784 Filed 5-29-25; 8:45 am]

BILLING CODE 6560-50-P